DEPARTMENT OF COMMERCE

National Institute of Standards and Technology

Announcing Establishment of the NIST Safety Commission

AGENCY: National Institute of Standards and Technology, Department of Commerce.

ACTION: Notice.

SUMMARY: The NIST Safety Commission (Commission) has been established as a discretionary advisory committee under agency authority in accordance with the provisions of FACA. It has been determined that the establishment of the Commission is necessary and in the public interest.

FOR FURTHER INFORMATION CONTACT: Dr. S. Shyam Sunder, Director of the Special Programs Office and Chief Data Officer, National Institute of Standards and Technology, at 301-975-6713 or sunder@nist.gov.

SUPPLEMENTARY INFORMATION: The NIST Safety Commission (Commission) has been established as a discretionary advisory committee under agency authority pursuant to 15 U.S.C. 1512 and in accordance with the Federal Advisory Committee Act, as amended (FACA), 5 U.S.C. App. The Secretary of Commerce has determined that the establishment of the Commission is necessary and in the public interest.

The Commission will provide advice to the NIST Director on matters relating to NIST safety policies; safety management system, practices, and performance; and safety culture. It will be tasked with assessing the state of NIST's safety culture and how effectively the existing safety protocols and policies have been implemented across NIST. The NIST Director may charge the Commission with specific areas of focus.

Members of the Commission will be appointed by the Director of NIST. The Commission will be composed of not more than seven members who are qualified to provide advice to the NIST Director on matters relating to safety policies; safety management system, practices, and performance; and safety culture. Commission membership will be balanced fairly and drawn from industry, academia, federal laboratories, and other relevant sectors.

The Commission will function solely as an advisory body, in accordance with the provisions of FACA. The Charter for the Commission will be filed with the appropriate entities no earlier than 15 calendar days following the date of publication of this notice.

Alicia Chambers,
NIST Executive Secretariat.

[FR Doc. 2022-26550 Filed 12-6-22; 8:45 am]

BILLING CODE 3510-13-P